SECURITIES AND EXCHANGE COMMISSION

[File No. 500-1]

HydroGenetics, Inc.; Order of Suspension of Trading

May 2, 2012.

It appears to the Securities and Exchange Commission that there is a lack of current and accurate information concerning the securities of HydroGenetics, Inc. (“HydroGenetics”) because it has not filed a periodic report since its Form 10 registration statement became effective in January 2005.

The Commission is of the opinion that the public interest and the protection of investors require a suspension of trading in the securities of HydroGenetics. Therefore, it is ordered, pursuant to Section 12(k) of the Securities Exchange Act of 1934, that trading in the securities of HydroGenetics is suspended for the period from 9:30 a.m. EDT on May 2, 2012, through 11:59 p.m. EDT on May 15, 2012.

By the Commission.
Jill M. Peterson,
Assistant Secretary.

[FR Doc. 2012-10985 Filed 5-2-12; 4:15 pm]

BILLING CODE 8011-01-P